DEPARTMENT OF JUSTICE

Notice of Lodging of Proposed Consent Judgment Under the Resource Recovery and Conservation Act

On September 4, 2012, the Department of Justice lodged a proposed consent judgment with the United States District Court for the Eastern District of New York in the lawsuit entitled United States v. Citygas Gasoline Corporation, et al., Civil Action No. CV-03-6374.

The proposed consent judgment will resolve the United States' claims under section 9006 of the Resource Recovery and Conservation Act, as amended, on behalf of the U.S. Environmental Protection Agency, against the following defendants: Tijuana Enterprises, Inc., One More Gasoline Company, Inc., E.D. Fuels, LLC, Enkido Gasoline Corporation, Satin Ventures, Inc., Eden Equities, Inc., Slingshot Gasoline, Inc., Stop Enterprise, Inc., Whitestone Gasoline, Inc., Java Gasoline, Inc., BBZZ Equities, Inc., 21st Century Fuel, LLC, A Penny Less Gasoline, Inc., and 46 Fuels, LLC (collectively, “Finkelstein Entities”) and Richard Finkelstein. The United States alleges that the Finkelstein Entities violated the regulations set forth at 40 CFR part 280, governing underground storage tanks (“USTs”), at seven facilities—automobile fueling stations with USTs—that the Finkelstein Entities have owned and/or operated at the following locations:

(1) 1508 Bushwick Avenue, Brooklyn, NY.

(2) 2800 Bruckner Boulevard, Bronx, NY.

(3) 141-50 Union Turnpike, Flushing, NY.

(4) 83-10 Astoria Boulevard, Jackson Heights, NY.

(5) 17-46 Clintonville Street, Whitestone, NY.

(6) 880 Garrison Avenue, Bronx, NY.

(7) 1945 Bartow Avenue, Bronx, NY.

The consent judgment requires the Finkelstein Entities to pay a civil penalty of $475,000. The consent judgment also provides for injunctive relief, which will consist of maintaining compliance with the UST regulations and submission of reports demonstrating such compliance, to be implemented over the next five years at the Finkelstein Entities' facilities.

The publication of this notice opens a period for public comment on the proposed consent judgment. Comments should be addressed to the Assistant Attorney General, Environment and Natural Resources Division, and should refer to United States v. Citygas Gasoline Corp., D.J. Ref. No. 90-7-1-0764. All comments must be submitted no later than thirty (30) days after the publication date of this notice. Comments may be submitted either by email or by mail:

To submit comments: | Send them to:
By e-mail | pubcomment-ees.enrd@usdoj.gov
By mail | Assistant Attorney General, U.S. DOJ—ENRD, P.O. Box 7611, Washington, DC 20044-7611.

During the public comment period, the consent judgment may be examined and downloaded at this Justice Department Web site: http://www.usdoj.gov/enrd/Consent_Decrees.html. We will provide a paper copy of the consent judgment upon written request and payment of reproduction costs. Please mail your request and payment to:

Consent Decree Library, P.O. Box 7611, U.S. Department of Justice, Washington, DC 20044-7611.

Please enclose a check or money order for $34.50 (25 cents per page reproduction cost) payable to the United States Treasury. For a paper copy without the exhibits and signature pages, the cost is $15.75.

Robert E. Maher, Jr.,
Assistant Section Chief, Environmental Enforcement Section, Environment and Natural Resources Division.

[FR Doc. 2012-22273 Filed 9-10-12; 8:45 am]

BILLING CODE 4410-15-P